DEPARTMENT OF HOMELAND SECURITY

U.S. Citizenship and Immigration Services

[CIS No. 2475-09; DHS Docket No. USCIS-2009-0009]

RIN 1615-ZA87

Filing Procedures and Automatic Extension of Employment Authorization and Related Documentation for Liberians Provided Deferred Enforced Departure

AGENCY: U.S. Citizenship and Immigration Services, Department of Homeland Security.

ACTION: Notice.

SUMMARY: This Notice announces a six-month automatic extension of employment authorization documents (EADs) for Liberians (and persons without nationality who last habitually resided in Liberia) for whom deferred enforced departure (DED) has been extended in accordance with the memorandum of March 20, 2009 from President Obama to the Secretary of Homeland Security, Janet Napolitano. The memorandum directed that DED for certain Liberians be extended and that employment be authorized for 12 months from April 1, 2009, through March 31, 2010. This Notice further informs Liberians covered by DED and their employers how to determine which EADs are automatically extended. This Notice also sets forth procedures necessary for individuals who are covered by DED to file for employment authorization for the full 12-month extension with U.S. Citizenship and Immigration Services (USCIS). Finally, this Notice provides instructions for those Liberians who have been provided DED and who would like to apply for permission to travel outside the United States during the 12-month DED period.

DATES: This Notice is effective March 30, 2009. The six-month automatic extension of employment authorization for Liberians who are eligible for DED, including the extension of their EADs, as specified in this notice, is effective as of 12:01 a.m. April 1, 2009. This automatic extension will expire on September 30, 2009.

FOR FURTHER INFORMATION CONTACT: DED Operations Program Manager, Status and Family Branch, Office of Service Center Operations, U.S. Citizenship and Immigration Services, Department of Homeland Security, 20 Massachusetts Avenue, NW., Washington, DC 20529-2060, telephone (202) 272-1533. This is not a toll-free call. Further information will also be available at local USCIS offices upon publication of this Notice and on the USCIS Web site at http://www.uscis.gov. Note: The phone number provided here is solely for questions regarding this notice and the information it contains. It is not for individual case status inquiries. Applicants seeking information about the status of individual cases can check Case Status Online available at the USCIS Web site, or may call the USCIS National Customer Service Center at 1-800-375-5283 (TTY 1-800-767-1833).

SUPPLEMENTARY INFORMATION:

Employment Authorization Filing Requirements

Who is eligible for employment authorization under the Presidential Memorandum that extended DED for certain Liberians for 12 months?

On March 20, 2009, President Obama issued a memorandum to Secretary of Homeland Security, Janet Napolitano, to extend DED for 12 additional months to individuals who are currently covered by Liberian DED through March 31, 2009. See Memorandum from President Obama to the Secretary of Homeland Security dated March 20, 2009 (“Presidential Memorandum”). The DED extension and the procedures for employment authorization in this notice apply to Liberian nationals (and persons without nationality who last habitually resided in Liberia) who were covered by DED as of March 31, 2009, which only includes those who held Temporary Protected Status (TPS) on September 30, 2007. The DED extension, however, does not include any individual:

• Who would be ineligible for TPS for the reasons provided in Immigration and Nationality Act (INA); § 244(c)(2)(B); 8 U.S.C. 1254a(c)(2)(B);

• Whose removal the Secretary of Homeland Security determines is in the interest of the United States;

• Whose presence or activities in the United States the Secretary of State has reasonable grounds to believe would have potentially serious adverse foreign policy consequences for the United States;

• Who has voluntarily returned to Liberia or his or her country of last habitual residence outside the United States;

• Who was deported, excluded, or removed prior to March 20, 2009, the date of the Presidential Memorandum directing that Liberian DED be extended; or

• Who is subject to extradition.

What do I need to file if I am covered by DED and would like to have evidence of employment authorization?

If you are covered under DED for Liberia, and would like employment authorization during the 12-month extension of DED, you must apply for an Employment Authorization Document (EAD). You must file USCIS Form I-765, Application for Employment Authorization Document, during the DED extension period. Please carefully follow the instructions for completing Form I-765. Please submit Form I-765 and supporting documentation to: Vermont Service Center, Attn: I-765, 75 Lower Welden St., St. Albans, VT 05479-0001.

On Form I-765, you must:

• Indicate that you are eligible for DED; and

• Include a copy of your last Form I-797, Notice of Action, showing that you were approved for TPS as of September 30, 2007, if such copy is available. (Please note that evidence of TPS as of September 30, 2007 is necessary to show that you were covered under the previous DED for Liberia as of March 31, 2009).

If biometrics are required to produce the secure EAD, you will be scheduled for an appointment at a USCIS Application Support Center. The new EAD will be valid through March 31, 2010. This EAD bearing a March 31, 2010 expiration date may be presented to employers for I-9 purposes.

What editions of Form I-765 should I submit?

Only versions of Form I-765 dated May 27, 2008 (Rev. 5/27/08), or later, will be accepted. The revision date can be found in the bottom right corner of the form. The proper forms can be obtained on the Internet at http://www.uscis.gov or by calling the USCIS forms hotline at 1-800-870-3676.

Can I file my application (Form I-765) electronically?

No. Electronic filing is not available for filing Form I-765 based on DED.

How will I know if I have to report to an Application Support Center (ASC) to submit biometrics?

USCIS will mail you a notice with instructions as to whether or not you are required to appear at an ASC for biometrics collection.

What documents should I bring to my ASC appointment?

When you report to an ASC, you must bring the following documents:

(1) Your receipt notice for your application;

(2) Your ASC appointment notice; and

(3) Your current EAD.

If no further action is required for your case, you will receive a new EAD by mail valid through March 31, 2010. If your case requires further consideration, USCIS will contact you in writing to explain what additional information, if any, is necessary to resolve your case. If your application is subsequently approved, you will receive a new EAD in the mail valid through March 31, 2010.

What will happen if I do not appear at the ASC?

Failure to appear at an ASC for a required ASC appointment will result in denial of your case due to abandonment unless you submit and USCIS has received an address change notification (see instruction below) or a rescheduling request prior to your appointment, and USCIS excuses your failure to appear. See 8 CFR 103.2(b)(13)(ii).

What if my address changes after I file my EAD application?

If your address changes after you file your application, you must complete and submit Form AR-11 by mail or electronically. The mailing address is: U.S. Citizenship and Immigration Services, Change of Address, P.O. Box 7134, London, KY 40742-7134.

Form AR-11 can also be filed electronically by following the directions on the USCIS Web site at: http://www.uscis.gov.

To facilitate processing your address change on your EAD application, you may call the USCIS National Customer Service Center at 1-800-375-5283 (TTY 1-800-767-1833) to request that your address be updated on your application. Please note that calling the USCIS National Customer Service Center does not relieve you of your burden to properly file a Form AR-11 with USCIS.

Extension of Employment Authorization and EADs

Who is eligible for a six-month automatic extension of employment authorization through September 30, 2009?

The Department of Homeland Security (DHS) is granting a six-month automatic extension of employment authorization and the EADs specified in this notice to Liberians who are provided DED in accordance with the Presidential Memorandum. As described in that Presidential Memorandum, eligible individuals are nationals of Liberia (or persons without nationality who last habitually resided in Liberia) who are covered by DED as of March 31, 2009.

In accordance with his constitutional authority to conduct the foreign relations of the United States, the President has directed that such Liberians who are eligible be provided DED for an additional 12-month period after their current DED status ends. In addition, the President directed the Secretary of Homeland Security to implement the necessary steps to authorize employment for 12 months from March 31, 2009, for Liberians (and persons without nationality who last resided in Liberia) who are eligible for DED in accordance with the Presidential Memorandum.

Which EADs are automatically extended through September 30, 2009?

This automatic extension is limited to EADs issued to Liberians (or persons without nationality who last habitually resided in Liberia) on Form I-766, Employment Authorization Document, bearing an expiration date of September 30, 2007. These EADs must also bear the notation “A-12” or “C-19” on the face of the card under “Category.”

Additionally, this automatic extension includes EADs issued to Liberians (or persons without nationality who last habitually resided in Liberia) on Form I-766, Employment Authorization Document, bearing an expiration date of March 31, 2009. These EADs must also bear the notation “A-11” on the face of the card under “Category.”

How may employers determine whether an EAD has been automatically extended for six months through September 30, 2009, and is therefore acceptable for completion of the Form I-9?

A Form I-766 (EAD) issued to a Liberian national (or person without nationality who last habitually resided in Liberia) bearing the notation “A-12” or “C-19” on the face of the card under “Category,” and having an expiration date of September 30, 2007, on the face of the card, is acceptable for completion of the Form I-9. Furthermore, a Form I-766 (EAD) issued to a Liberian national (or person without nationality who last habitually resided in Liberia) bearing the notation “A-11” on the face of the card under “Category,” and having an expiration date of March 31, 2009, on the face of the card, is acceptable for completion of the Form I-9. This notice provides a six-month automatic extension of such EADs until September 30, 2009. Employers should not request proof of Liberian citizenship.

Employers should accept an EAD as a valid “List A” document and not ask for additional Form I-9 documentation if presented with an EAD that has been extended pursuant to this Federal Register Notice, and the EAD reasonably appears on its face to be genuine and to relate to the employee. Employers are reminded that an applicant for employment or an employee can present any legally acceptable document as proof of identity and eligibility for employment.

Note to Employers: Employers are reminded that the laws requiring employment eligibility verification and prohibiting unfair immigration-related employment practices remain in full force. This notice does not supersede or in any way limit applicable employment verification rules and policy guidance, including those setting forth re-verification requirements. For questions, employers may call the USCIS Customer Assistance Office at 1-800-357-2099. Employers may also call the U.S. Department of Justice Office of Special Counsel for Immigration Related Unfair Employment Practices (OSC) Employer Hotline at 1-800-255-8155. Additional information is available on the OSC Web site at http://www.usdoj.gov/crt/osc/index.html.

What documents may a qualified individual show to his or her employer as proof of employment authorization and identity when completing Form I-9?

Through September 30, 2009, Liberians (and persons without nationality who last habitually resided in Liberia) who are eligible for DED, as described in the Presidential Memorandum, may present a copy of this Federal Register Notice regarding the automatic extension of employment authorization documentation, along with:

• Their Form I-766s (EADs) bearing the notation “A-12” or “C-19” on the face of the cards under “Category,” and having an expiration date of September 30, 2007, on the face of the cards, or

• Their Forms I-766 (EADs) bearing the notation “A-11” on the face of the cards under “Category,” and having an expiration date of March 31, 2009, on the face of the cards.

In the alternative, any legally acceptable document or combination of documents listed in List A, List B, or List C of the Form I-9 may be presented as proof of identity and employment eligibility.

May I request an interim EAD at my local district office?

No. USCIS will not issue interim EADs to individuals eligible for DED under the Presidential Memorandum at local district offices.

May an individual who is covered by DED under the Presidential Memorandum travel outside of the United States and be permitted to return during the 12-month DED period?

Individuals covered under DED who would want to travel outside of the United States must apply for and receive advance parole by filing Form I-131, Application for Travel Document, with required fees. See 8 CFR 223.2(a). The determination whether to grant advance parole is within the discretion of DHS and is not guaranteed in all cases. If you seek advance parole in order to go to Liberia, you may risk being found ineligible to re-enter the United States under DED because the President's Memorandum excludes persons “who have voluntarily returned to Liberia.”

Dated: March 26, 2009.
Michael Aytes,
Acting Deputy Director, U.S. Citzenship and Immigration Services.

[FR Doc. E9-7092 Filed 3-26-09; 11:15 am]

BILLING CODE 9111-97-P